DEPARTMENT OF THE INTERIOR

Minerals Management Service

Outer Continental Shelf Leasing Map

AGENCY: Minerals Management Service, Interior.

ACTION: Technical Corrections—Lease Sale 178, Part 1.

SUMMARY: This Notice corrects an error on Leasing Maps LA6, South Timbalier Area, September 1, 1999; and LA6A, South Timbalier Area, South Addition, September 1, 1999, for Lease Sale 178, Part 1. In the notes block in the lower left corner of each map, paragraph one, sentence three, the value 3372.18 acres is corrected as follows: 3772.18 acres.

FOR FURTHER INFORMATION CONTACT: Technical comments or questions pertaining to these maps should be directed to Chief, Mapping and Boundary Branch, Leasing Division, Minerals Management Service, P.O. Box 25165, Mail Stop 4011, Denver, Colorado 80225, Telephone (303) 275-7121.

SUPPLEMENTARY INFORMATION: On February 23, 2001, MMS published a Federal Register Notice (66 FR 11524) on Lease Sale 178, Part 1. In this notice, reference is made to leasing maps and official protraction diagrams in identifying the available Federal acreage of all whole and partial blocks in this sale. This notice corrects an error made on each map concerning the value of acres.

Dated: March 22, 2001.
Carolita U. Kallaur,
Associate Director for Offshore Minerals Management.

[FR Doc. 01-7660 Filed 3-26-01; 8:45 am]

BILLING CODE 4310-MR-P